DEPARTMENT OF THE TREASURY

Submission for OMB Review; Comment Request

August 26, 2016.

The Department of the Treasury will submit the following information collection request to the Office of Management and Budget (OMB) for review and clearance in accordance with the Paperwork Reduction Act of 1995, Public Law 104-13, on or after the date of publication of this notice.

DATES: Comments should be received on or before September 30, 2016 to be assured of consideration.

ADDRESSES: Send comments regarding the burden estimates, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submission may be obtained by emailing PRA@treasury.gov, calling (202) 622-1295, or viewing the entire information collection request at www.reginfo.gov.

Financial Crimes Enforcement Network (FinCEN)

OMB Control Number: 1506-0009.

Type of Review: Extension of a previously approved collection.

Title: Financial Record-keeping and Reporting and Report of Foreign Bank and Financial Accounts.

Abstract: The Bank Secrecy Act authorizes Treasury to require financial institutions and individuals to keep records and file reports that the Treasury determines have a high degree of usefulness in criminal, tax, or regulatory matters, or to protect against international terrorism. The information collected assists federal, state, and local law enforcement in the identification, investigation, and prosecution of individuals involved in a variety of financial crimes.

Affected Public: Businesses or other for-profits; Farms, Not-for-profit institutions.

Estimated Total Annual Burden Hours: 1,007,210.

Brenda Simms,
Treasury PRA Clearance Officer.

[FR Doc. 2016-20970 Filed 8-30-16; 8:45 am]

BILLING CODE 4810-02-P